DEPARTMENT OF ENERGY

Federal Energy Regulatory Commission

[Project No. 13221-000]

Pacific Gas and Electric Company; Notice of Preliminary Permit Application Accepted for Filing and Soliciting Comment, Motions To Intervene, and Competing Applications

July 10, 2008.

On May 8, 2008, Pacific Gas and Electric Company filed an application, pursuant to section 4(f) of the Federal Power Act, proposing to study the feasibility of the Mokelumne Pumped Storage Project to be located in Amador and Calaveras Counties, California on private and federal land managed by the U.S. Forest Service.

The proposed project would consist of one of the following three possible designs: (1)(i) Use of the existing Lower Bear River Reservoir, with a surface area of 746 acres, storage capacity of 49,079 acre feet, and normal water surface elevation of 5,822 feet, as the upper reservoir with the possibility of a dam raise to increase capacity; (ii) a 16,000 foot long power tunnel including intake structure, penstock, and tailrace, (2)(i) use of the existing Upper Bear River Reservoir, with a surface area of 320 acres, storage capacity of 6,756 acre feet, and a normal water surface elevation of 5,876 feet, as the upper reservoir with the possibility of a dam raise to increase capacity; (ii) a 20,000 foot long power tunnel including intake structure, penstock, and tailrace, (3)(i) A newly constructed dam in the Cole Creek area about 150 feet high and 700 feet long; (ii) a reservoir with a surface elevation of 6,139 feet and capacity of 12,856 acre feet; (iii) an 11,700 foot long power tunnel including intake structure, penstock, and tailrace; (4) the existing Salt Springs Reservoir, with a surface area of 960 acres, storage capacity of 141,817 acre feet, and a normal water surface elevation of 3,959 feet, would act as the lower reservoir for the proposed plans; (5) a powerhouse with a total installed capacity from 380-1140 MW; (6) a transmission line about 3,000 feet long and of 230 or 500 kV and; (7) appurtenant facilities. The annual electrical production would be between 523 and 742 GWh.

Applicant Contact: Mr. Randal S. Livingston 245 Market Street, N11E-1137, San Francisco, CA 94105, (415) 973-6950.

FERC Contact: Steven Sachs, (202) 502-8666.

Deadline for filing comments, motions to intervene, competing applications (without notices of intent), or notices of intent to file competing applications: 60 days from the issuance of this notice.

Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426.

For more information on how to submit these types of filings please go to the Commission's Web site located at http://www.ferc.gov/filing-comments.asp. More information about this project can be viewed or printed on the “eLibrary” link of the Commission's Web site at http://www.ferc.gov/docs-filing/elibrary.asp. Enter the docket number (P-13221) in the docket number field to access the document. For assistance, call toll-free 1-866-208-3372.

Kimberly D. Bose,
Secretary.

[FR Doc. E8-16291 Filed 7-16-08; 8:45 am]

BILLING CODE 6717-01-P